DEPARTMENT OF DEFENSE

Office of the Secretary

[Transmittal No. 25-0R]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-0R.

Dated: January 16, 2026.
Stephanie J. Bost,
Alternate OSD Federal Register Liaison Officer, Department of Defense.

BILLING CODE 6001-FR-P

BILLING CODE 6001-FR-C

Transmittal No. 25-0R

REPORT OF ENHANCEMENT OR UPGRADE OF SENSITIVITY OF TECHNOLOGY OR CAPABILITY (SEC. 36(B)(5)(C), AECA)

(i) Prospective Purchaser: Government of Poland

(ii) Sec. 36(b)(1), AECA Transmittal No.: 22-71

Date: December 6, 2022

Implementing Agency: Army

Funding Source: National Funds

(iii) Description: On December 6, 2022, Congress was notified by congressional certification transmittal number 22-71 of the possible sale under Section 36(b)(1) of the Arms Export Control Act, of one hundred sixteen (116) M1A1 Abrams Main Battle Tanks; twelve (12) M88A2 HERCULES Combat Recovery Vehicles; eight (8) M1110 Joint Assault Bridges; six (6) M577A3 Command Vehicles; twenty-six (26) M1152A1 High Mobility Multi-purpose Wheeled Vehicles (HMMWV); twenty-six (26) M1279A1 Joint Light Tactical Vehicles (JLTV); one hundred sixteen (116) M2 .50 caliber machine guns; two hundred thirty-two (232) M240 7.62mm machine guns; six (6) AGT 1500 gas turbine engines; thirty thousand nine hundred twenty-eight (30,928) 120mm M865 Target Practice, Cone Stabilized, Discarding Sabot—Tracer (TPCSDS-T) cartridges; twenty thousand eight hundred twenty-three (20,823) 120mm M1002 Target Practice Multipurpose Tracer (TPMP-T) projectiles; sixty thousand (60,000) 120mm M829A4 Armor Piercing, Fin Stabilized, Discarding Sabot-Tracer (APFSDS-T) cartridges; two thousand (2,000) 120mm M829A3 Armor Piercing, Fin Stabilized, Discarding Sabot-Tracer (APFSDS-T) cartridges; fifty thousand (50,000) 120mm M829A2 Armor Piercing, Fin Stabilized, Discarding Sabot-Tracer (APFSDS-T) cartridges; ten thousand (10,000) 120mm M830A1 High Explosive Anti-Tank (HEAT) TP-T cartridges; sixty thousand (60,000) 120mm M908 High Explosive Obstacle Reduction-Tracer (HE-OR-T) cartridges, and seventy thousand (70,000) 120mm M1147 High Explosive Advanced Multipurpose Round cartridges. Also included were Forward Repair Systems; Next Generation (NG) Shop Equipment Maintenance Contact (SECM) shelters; communications equipment; GPS receivers; ammunition; Spare and Repair Parts; Special Tools and Test Equipment (STTE); technical manuals and publications; new equipment training; United States (U.S.) Government and contractor technical engineering, logistics, and personnel services; and other related elements of logistics and program support. The estimated total program cost was $3.75 billion. Major Defense Equipment (MDE) constituted $3.25 billion of this total.

On September 25, 2024, Congress was notified by congressional certification transmittal number 24-0T of the inclusion of twenty-five (25) M1150 Assault Breacher Vehicles (ABVs); thirty-seven (37) M2 .50 caliber machine guns; sixty thousand (60,000) 120 mm M908 High Explosive Obstacle Reduction—Tracer (HE-OR-T) cartridges; thirty (30) 120 mm M865 Target Practice, Cone Stabilized, Discarding Sabot—Tracer (TPCSDS-T) cartridges; two hundred twenty-five (225) M58 linear charge demolition, high explosive Mine Clearing Line Charges (MICLICs); and twenty-five (25) M68A2 Charge, Demolition, Inert, Flexible Linear. The following non-MDE items were also included: MK22 MOD 4 5-inch rocket motors; AN/PRC-158 radios; communications equipment; Global Positioning System (GPS) receivers and precise positioning provided by Selective Availability Anti-Spoofing Module or M-Code; forward repair systems; spare and repair parts; Special Tools and Test Equipment (STTE); technical manuals and publications; New Equipment Training (NET); site surveys; transportation; U.S. Government and contractor technical, engineering, logistics, and personnel services; and other related elements of logistics and program support. The total value of the new items was $850 million, but did not require an increase to the previously notified MDE and non-MDE values. The estimated total cost remained $3.75 billion. MDE remained $3.25 billion of this total.

This transmittal notifies the inclusion of the following additional MDE items: sixteen (16) M88A2 Heavy Equipment Recovery Combat Utility Lift and Evacuation System (HERCULES) recovery vehicles and fifty (50) AGT1500 M1A1 tank engines. The following non-MDE items will also be included: M88A2 and tank engine follow-on support; 120 mm ammunition rounds; and other related elements of logistics and program support. The estimated total cost of the new items is $5.83 billion. The estimated MDE value will increase by $4.86 billion. The estimated total case value will increase by $5.83 billion to a revised $9.58 billion. MDE will constitute $8.11 billion of that total.

(iv) Significance: This notification is being provided as the additional MDE and non-MDE items were not enumerated in the original notification. The inclusion of these items represents an increase in capability over what was previously notified. The proposed sale will support Poland's capability to meet current and future threats by enabling a credible force that is capable of deterring adversaries and participating in NATO operations.

(v) Justification: This proposed sale will support the foreign policy goals and national security objectives of the U.S. by improving the security of a NATO Ally that is an important force for political stability and economic progress in Europe.

(vi) Sensitivity of Technology:

The Sensitivity of Technology Statement contained in the original notification applies to items reported here.

The highest level of classification of defense articles, components, and services included in this potential sale is SECRET.

(vii) Date Report Delivered to Congress: July 29, 2025

[FR Doc. 2026-01123 Filed 1-21-26; 8:45 am]

BILLING CODE 6001-FR-P